FEDERAL COMMUNICATIONS COMMISSION

47 CFR Part 73

[DA 05-575; MB Docket No. 05-82, RM-11170; MB Docket No. 05-83, RM-11171; MB Docket No. 05-84, RM-11172]

Radio Broadcasting Services; Coosada, AL; Livingston, AL; and Rockford, AL

AGENCY: Federal Communications Commission.

ACTION: Proposed rule.

SUMMARY: This document proposes three new FM broadcast allotments in Coosada, Alabama; Livingston, Alabama; and Rockford, Alabama. The Audio Division, Media Bureau, requests comment on a petition filed by Tempest Communications, proposing the allotment of Channel 226A at Coosada, Alabama, as the community's first local aural transmission service. Channel 226A can be allotted to Coosada in compliance with the Commission's minimum distance separation requirements with a site restriction of 4.3 kilometers (2.7 miles) east of the central city coordinates for Coosada. The reference coordinates for Channel 226A at Coosada are 32-30-02 North Latitude and 86-17-09 West Longitude. See SUPPLEMENTARY INFORMATION, infra.

DATES: Comments must be filed on or before April 25, 2005, and reply comments on or before May 10, 2005.

ADDRESSES: Federal Communications Commission, 445 Twelfth Street, SW., Washington, DC 20554. In addition to filing comments with the FCC, interested parties should serve the petitioner, his counsel, or consultant, as follows: Tempest Communications, c/o Howard M. Weiss, Esq., Fletcher, Heald & Hildreth PLC; 1300 North 17th Street, 11th Floor; Arlington, Virginia 22209-3801; Sumter County Broadcasting, c/o John C. Trent, Esq., Putbrese, Hunsaker & Trent, P.C.; 100 Carpenter Drive, Suite 100, P.O. Box 217; Sterling, Virginia 20167-0217; and Christopher W. Johnson, Vice President, Alatron Corporation Inc.; P.O. Box 83; Clanton, Alabama 35046.

FOR FURTHER INFORMATION CONTACT: R. Barthen Gorman, Media Bureau, (202) 418-2180.

SUPPLEMENTARY INFORMATION: This is a synopsis of the Commission's Notice of Proposed Rule Making, MB Docket Nos. 05-82, 05-83, and 05-84, adopted March 2, 2005 and released March 4, 2005. The full text of this Commission document is available for inspection and copying during regular business hours at the FCC's Reference Information Center, Portals II, 445 Twelfth Street, SW., Room CY-A257, Washington, DC 20554. The complete text of this decision may also be purchased from the Commission's duplicating contractor, Best Copy and Printing, Inc., 445 12th Street, SW., Room CY-B402, Washington, DC 20054, telephone 1-800-378-3160 or www.BCPIWEB.com. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4).

The Audio Division requests comments on a petition filed by Sumter County Broadcasting, proposing the allotment of Channel 242A at Livingston, Alabama, as the community's first local aural transmission service. Channel 242A can be allotted to Livingston in compliance with the Commission's minimum distance separation requirements with a site restriction of 2.3 kilometers (1.4 miles) northeast of Livingston. The reference coordinates for Channel 242A at Livingston are 32-35-36 North Latitude and 88-09-57 West Longitude.

The Audio Division requests comments on a petition filed by Alatron Corporation proposing the allotment of Channel 286A at Rockford, Alabama, as the community's first local aural transmission service. Channel 286A can be allotted to Rockford in compliance with the Commission's minimum distance separation requirements with a site restriction of 11.3 kilometers (7.0 miles) east of Rockford. The reference coordinates for Channel 286A at Rockford are 32-52-15 North Latitude and 86-06-04 West Longitude.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contact.

For information regarding proper filing procedures for comments, see 47 CFR 1.415 and 1.420.

List of Subjects in 47 CFR Part 73

Radio, Radio broadcasting.

For the reasons discussed in the preamble, the Federal Communications Commission proposes to amend 47 CFR Part 73 as follows:

PART 73—RADIO BROADCAST SERVICES

1. The authority citation for Part 73 continues to read as follows:

Authority: 47 U.S.C. 154, 303, 334 and 336.

§ 73.202 [Amended]

2. Section 73.202(b), the Table of FM Allotments under Alabama, is amended by adding Coosada, Channel 226A; Livingston, Channel 242A, and Rockford, Channel 286A.

Federal Communications Commission.
John A. Karousos,
Assistant Chief, Audio Division, Media Bureau.

[FR Doc. 05-5314 Filed 3-16-05; 8:45 am]

BILLING CODE 6712-01-P